ENVIRONMENTAL PROTECTION AGENCY

[FRL-7804-9]

Notice of Tentative Approval and Solicitation of Request for a Public Hearing for Public Water System Supervision Program Revision for the Commonwealth of Virginia

AGENCY: Environmental Protection Agency (EPA).

ACTION: Notice of tentative approval and Solicitation of Requests for a Public Hearing.

SUMMARY: Notice is hereby given in accordance with the provision of section 1413 of the Safe Drinking Water Act as amended, and the rules governing National Primary Drinking Water Regulations Implementation that the Commonwealth of Virginia is revising its approved Public Water System Supervision Program. Specifically, the Virginia Department of Health (VDH) has adopted the Lead and Copper Rule Minor Revisions to streamline and reduce reporting burden, a Public Notification Rule for public water systems to notify their customers when they violate EPA or Commonwealth drinking water standards, a Radionuclides Rule to establish a new maximum contaminant level for uranium and revise monitoring requirements, and a Filter Backwash Recycling Rule to institute changes to the return of recycle flows to a plant's treatment process that may otherwise compromise microbial control.

EPA has determined that these revisions are no less stringent than the corresponding Federal regulations aside from one omission in the Commonwealth's Public Notification Rule of a procedural requirement found in 40 CFR Part 141. 40 CFR 141.201(c)(2) provides that when a public water system has a violation in a portion of the distribution system that is physically or hydraulically isolated from other parts of the distribution system, the State may allow the system to limit distribution of the public notice to only persons served by that portion of the system which is out of compliance. When Virginia approves this type of limited distribution, it must give its permission in writing. However, VDH did not include the “in writing” requirement in its rules. VDH has agreed to correct this omission and add this requirement in an upcoming revision of its regulations. During the interim, it has agreed that all of its Field Offices will put such approvals in writing. Given this commitment, EPA is taking action to tentatively approve these program revisions. All interested parties are invited to submit written comments on this determination and may request a public hearing.

DATES: Comments or a request for a public hearing must be submitted by September 23, 2004. This determination shall become effective on September 23, 2004 if no timely and appropriate request for a hearing is received and the Regional Administrator does not elect on his own to hold a hearing, and if no comments are received which cause EPA to modify its tentative approval.

ADDRESSES: Comments or a request for a public hearing must be submitted to the U.S. Environmental Protection Agency Region III, 1650 Arch Street, Philadelphia, PA 19103-2029. Comments may also be submitted electronically to Hoover.Michelle@epa.gov. All documents relating to this determination are available for inspection between the hours of 8 a.m. and 4:30 p.m., Monday through Friday, at the following offices:

• Drinking Water Branch, Water Protection Division, U.S. Environmental Protection Agency Region III, 1650 Arch Street, Philadelphia, PA 19103-2029.

• Office of Drinking Water, Virginia Department of Health, Madison Building, 6th Floor, 109 Governor Street, Room 632, Richmond, VA 23219.

FOR FURTHER INFORMATION CONTACT: Michelle Hoover, Drinking Water Branch at the Philadelphia address given above; telephone (215) 814-5258 or fax (215) 814-2318.

SUPPLEMENTARY INFORMATION: All interested parties are invited to submit written comments on this determination and may request a public hearing. All comments will be considered, and, if necessary, EPA will issue a response. Frivolous or insubstantial requests for a hearing may be denied by the Regional Administrator. However, if a substantial request for a public hearing is made by September 23, 2004, a public hearing will be held. A request for public hearing shall include the following: (1) The name, address, and telephone number of the individual, organization, or other entity requesting a hearing; (2) a brief statement of the requesting person's interest in the Regional Administrator's determination and of information that the requesting person intends to submit at such a hearing; and (3) the signature of the individual making the request; or, if the request is made on behalf of an organization or other entity, the signature of a responsible official of the organization or other entity.

Dated: August 13, 2004.
Donald S. Welsh,
Regional Administrator, EPA, Region III.

[FR Doc. 04-19341 Filed 8-23-04; 8:45 am]

BILLING CODE 6560-50-P